CORPORATION FOR NATIONAL AND COMMUNITY SERVICE

Sunshine Act Meeting; Notice

The Board of Directors of the Corporation for National and Community Service gives notice of the following meeting:

Date and Time: February 27, 2001, 10 a.m.-12:30 p.m.

Place: Corporation for National and Community Service, 1201 New York Avenue, NW, 8th Floor, Washington, DC 20525.

Status: Open.

Matters to be Considered: The Board of Directors is scheduled to consider and act upon the Corporation's annual plan. The Committees of the Board of Directors will report on their activities, including financial management. In addition, the Board is scheduled to engage in dialogue with outside officials concerning: the President's Initiatives; the Office of Faith-Based and Community Initiatives; Strategic Alliances with America's Promise, the Points of Light Foundation, and Communities in Schools; Leadership Training; the recommendations of the Association of State Service Commissions; and senior service.

Accommodations: Anyone who needs an interpreter or other accommodation should notify the Corporation's contact person.

Contact Person for Further Information: Rhonda Taylor, Deputy Director of Public Liaison, Corporation for National Service, 8th Floor, Room 8619, 1201 New York Avenue NW, Washington, D.C. 20525. Phone (202) 606-5000 ext. 282. Fax (202) 565-2794. TDD: (202) 565-2799.

Dated: February 12, 2001.
Frank R. Trinity,
Acting General Counsel, Corporation for National and Community Service.

[FR Doc. 01-3978 Filed 2-13-01; 1:22 pm]

BILLING CODE 6050-28-U